DEPARTMENT OF COMMERCE

International Trade Administration

[A-580-831]

Stainless Steel Plate in Coils from the Republic of Korea: Rescission of Antidumping Duty Administrative Review

AGENCY: Import Administration, International Trade Administration, Department of Commerce.

ACTION: Notice of Rescission of Antidumping Duty Administrative Review.

SUMMARY: On June 25, 2002, the Department of Commerce (“the Department's”) initiated an administrative review of the antidumping duty order on stainless steel plate in coils from the Republic of Korea. See Initiation of Antidumping and Countervailing Duty Administrative Reviews and Request for Revocation in Part, 67 FR 42753 (June 25, 2002). The review covers one manufacturer/exporter, Pohang Iron & Steel Co., Ltd. (“POSCO”). The period of review is May 1, 2001 through April 30, 2002. The Department is rescinding this review because it found no entries of subject merchandise by POSCO into the United States during the period of review, in accordance with 19 CFR 351.213(d)(3) of its regulations. The Department is now publishing its determination to rescind this review.

EFFECTIVE DATE: November 26, 2002.

FOR FURTHER INFORMATION CONTACT: Brandon Farlander or Robert Bolling, Import Administration, International Trade Administration, U.S. Department of Commerce, 14th Street and Constitution Avenue, N.W., Washington, D.C. 20230; telephone (202) 482-0182 or (202) 482-3434, respectively.

SUPPLEMENTARY INFORMATION:

The Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations are to the regulations codified at 19 CFR part 351 (2001).

Background

On May 6, 2002, the Department published in the Federal Register a notice of opportunity to request an administrative review of the antidumping duty order on stainless steel plate in coils (“SSPC”) from Korea. See Antidumping or Countervailing Duty Order, Finding, or Suspended Investigation; Opportunity To Request Administrative Review, 67 FR 30356 (May 6, 2002). On May 31, 2002, the petitioners in this proceeding, Allegheny Ludlum, AK Steel Corporation (formerly Armco, Inc.), Butler-Armco Independent Union, Zanesville Armco Independent Union, and the United Steelworkers of America, AFL-CIO/CLC, submitted a request for an administrative review of sales by POSCO, a manufacturer/exporter of SSPC, for the period May 1, 2001 through April 30, 2002. The Department initiated an administrative review on June 25, 2002.

On June 19, 2002, POSCO submitted a letter to the Department stating that it did not export the subject merchandise to the United States during the period of review (“POR”). On July 1, 2002, the Department issued POSCO its standard antidumping duty questionnaire. In response to the Department's questionnaire, POSCO again stated that neither it, nor any of its affiliates, had exports or sales in the United States of subject merchandise manufactured or produced by POSCO during the POR.

On August 21, 2002, the Department sent a no-shipment inquiry concerning SSPC from Korea and POSCO to the U.S. Customs Service (“Customs”). The purpose of this inquiry was to determine whether Customs suspended liquidation of entry summaries of SSPC from Korea manufactured and/or exported by POSCO during the POR. The Customs Service did not identify any suspended entry summaries of SSPC manufactured and/or exported by POSCO during the POR. Therefore, we have determined that there were no entries of subject merchandise produced or exported by POSCO into the customs territory of the United States during the POR.

Rescission of Review

Pursuant to 19 CFR 351.213(d)(3), the Department will rescind an administrative review, in whole, or only with respect to a particular exporter or producer, if the Department concludes that, during the period covered by the review, there were no entries, exports, or sales of the subject merchandise. In light of the fact that we have determined that the only company covered by the review did not have entries for consumption into the territory of the United States during the POR in question, we find that rescinding this review is appropriate. On October 25, 2002, we asked petitioners to submit any evidence that POSCO had entries, exports, or sales or subject merchandise during the POR. See Memorandum to the File from Brandon Farlander through Robert Bolling, dated October 25, 2002. We did not receive any evidence from petitioners. Therefore, we are rescinding this administrative review for the period May 1, 2001 through April 30, 2002, and will issue appropriate assessment instructions to the U.S. Customs Service. The cash-deposit rate for POSCO will remain at 1.19 percent, the rate established in the most recently completed segment of this proceeding (66 FR 64107, December 11, 2001).

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of APO is a sanctionable violation.

This notice is in accordance with section 777(i) of the Act and 19 CFR 351.213(d)(4).

Dated: November 19, 2002.
Bernard T. Carreau,
Acting Assistant Secretary for Import Administration.

[FR Doc. 02-29992 Filed 11-25-02; 8:45 am]

BILLING CODE 3510-DS-S